DEPARTMENT OF TRANSPORTATION

Federal Aviation Administration

14 CFR Part 97

[Docket No. 30790; Amdt. No. 3432 ]

Standard Instrument Approach Procedures, and Takeoff Minimums and Obstacle Departure Procedures; Miscellaneous Amendments

AGENCY: Federal Aviation Administration (FAA), DOT.

ACTION: Final Rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 11, 2011. The compliance date for each SIAP, associated Takeoff Minimums, and ODP is specified in the amendatory provisions.

The incorporation by reference of certain publications listed in the regulations is approved by the Director of the Federal Register as of July 11, 2011.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—-(1) is not a “significant regulatory action” under Executive Order 12866;(2) is not a “significant rule ” under DOT Regulatory Policies and Procedures (44 FR 11034; February 26,1979); and (3)does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on June 24, 2011.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 28 JUL 2011

Andalusia/Opp, AL, South Alabama Rgnl at Bill Benton Field, NDB-A, Amdt 4

Burbank, CA, Bob Hope, Takeoff Minimums and Obstacle DP, Amdt 5

Napa, CA, Napa County, RNAV (GPS) Y RWY 36L, Amdt 2

Napa, CA, Napa County, RNAV (GPS) Z RWY 36L, Amdt 1

Orlando, FL, Orlando Sanford Intl, RNAV (GPS) RWY 18, Orig

Monticello, IA, Monticello Rgnl, RNAV (GPS) RWY 15, Amdt 1

Monticello, IA, Monticello Rgnl, RNAV (GPS) RWY 33, Amdt 1

Dexter, ME, Dexter Rgnl, GPS RWY 34, Orig, CANCELLED

Dexter, ME, Dexter Rgnl, RNAV (GPS) RWY 16, Orig

Dexter, ME, Dexter Rgnl, RNAV (GPS) RWY 34, Orig

Corinth, MS, Roscoe Turner, RNAV (GPS) RWY 36, Amdt 1

Harvey, ND, Harvey Muni, RNAV (GPS) RWY 29, Orig-A

Eastland, TX, Eastland Muni, RNAV (GPS) RWY 17, Orig-A

Houston, TX, Lone Star Executive, ILS OR LOC RWY 14, Amdt 2C

Effective 25 AUG 2011

Northway, AK, Northway, RNAV (GPS) RWY 23, Amdt 1

Wrangell, AK, Wrangell, LEVEL ISLAND ONE Graphic DP

Wrangell, AK, Wrangell, Takeoff Minimums & Obstacle DP, Amdt 2

Little Rock, AR, Adams Field, RNAV (GPS) RWY 18, Amdt 1A

Hawthorne, CA, Jack Northrop Field/Hawthorne Muni, RNAV (GPS) RWY 25, Orig

La Verne, CA, Brackett Field, RNAV (GPS) RWY 26L, Orig

Placerville, CA, Placerville, RNAV (GPS) RWY 5, Amdt 1

Sacramento, CA, Sacramento Executive, ILS OR LOC RWY 2, Amdt 24

Sacramento, CA, Sacramento Mather, RNAV (GPS) RWY 22L, Amdt 2

Visalia, CA, Visalia Muni, ILS OR LOC/DME RWY 30, Amdt 7

Visalia, CA, Visalia Muni, RNAV (GPS) RWY 12, Amdt 1

Visalia, CA, Visalia Muni, RNAV (GPS) RWY 30, Amdt 1

Lake Wales, FL, Lake Wales Muni, RNAV (GPS) RWY 6, Orig

Lake Wales, FL, Lake Wales Muni, RNAV (GPS) RWY 24, Orig

Lake Wales, FL, Lake Wales Muni, VOR/DME-B, Amdt 3

Davenport, IA, Davenport Muni, RNAV (GPS) RWY 33, Amdt 1A

Boise, ID, Boise Air Terminal/Gowen Fld, NDB RWY 10R, Amdt 28A

Burley, ID, Burley Muni, RNAV (GPS) RWY 20, Orig-A

Burley, ID, Burley Muni, VOR-A, Amdt 4B

Burley, ID, Burley Muni, VOR/DME-B, Amdt 4B

Chicago/Aurora, IL, Aurora Muni, RNAV (GPS) RWY 9, Amdt 1B

Gary, IN, Gary/Chicago Intl, RNAV (RNP) Z RWY 12, Orig-A

Gary, IN, Gary/Chicago Intl, RNAV (RNP) Z RWY 30, Orig-B

Goshen, IN, Goshen Muni, GPS RWY 9, Amdt 1, CANCELLED

Goshen, IN, Goshen Muni, RNAV (GPS) RWY 9, Orig

Campbellsville, KY, Taylor County, GPS RWY 5, Orig-A, CANCELLED

Campbellsville, KY, Taylor County, NDB RWY 23, Amdt 4

Campbellsville, KY, Taylor County, RNAV (GPS) RWY 5, Orig

Campbellsville, KY, Taylor County, RNAV (GPS) RWY 23, Orig

Campbellsville, KY, Taylor County, Takeoff Minimums and Obstacle DP, Orig

Campbellsville, KY, Taylor County, VOR/DME-A, Amdt 6

Springfield, KY, Lebanon-Springfield, RNAV (GPS) RWY 11, Orig

Springfield, KY, Lebanon-Springfield, RNAV (GPS) RWY 29, Orig

Abbeville, LA, Abbeville Chris Crusta Memorial, RNAV (GPS) RWY 16, Amdt 1

Abbeville, LA, Abbeville Chris Crusta Memorial, RNAV (GPS) RWY 34, Amdt 1

Abbeville, LA, Abbeville Chris Crusta Memorial, Takeoff Minimums and Obstacle DP, Orig

De Ridder, LA, Beauregard Rgnl, RADAR 1, Orig-A, CANCELLED

Beverly, MA, Beverly Muni, RNAV (GPS) RWY 16, Amdt 1

Oakland, MD, Garrett County, RNAV (GPS) RWY 9, Amdt 1

Oakland, MD, Garrett County, RNAV (GPS) RWY 27, Amdt 1

Owosso, MI, Owosso Community, RNAV (GPS) RWY 11, Amdt 1A

Owosso, MI, Owosso Community, RNAV (GPS) RWY 29, Amdt 1A

Owosso, MI, Owosso Community, VOR/DME RWY 29, Amdt 1A

Sault Ste Marie, MI, Sault Ste Marie Muni/Sanderson Field, RNAV (GPS) RWY 14, Orig

Sault Ste Marie, MI, Sault Ste Marie Muni/Sanderson Field, RNAV (GPS) RWY 32, Orig

Sault Ste Marie, MI, Sault Ste Marie Muni/Sanderson Field, Takeoff Minimums and Obstacle DP, Orig

Sault Ste Marie, MI, Sault Ste Marie Muni/Sanderson Field, VOR RWY 32, Amdt 3

Hibbing, MN, Range Rgnl, RNAV (GPS) RWY 13, Amdt 1

Hibbing, MN, Range Rgnl, RNAV (GPS) RWY 31, Amdt 1

Maple Lake, MN, Maple Lake Muni, GPS RWY 28, Orig, CANCELLED

Maple Lake, MN, Maple Lake Muni, RNAV (GPS) RWY 28, Orig

Orr, MN, Orr Rgnl, GPS RWY 13, Orig, CANCELLED

Orr, MN, Orr Rgnl, RNAV (GPS) RWY 13, Orig

Ortonville, MN, Ortonville Muni-Martinson Field, GPS RWY 34, Orig, CANCELLED

Ortonville, MN, Ortonville Muni-Martinson Field, RNAV (GPS) RWY 34, Orig

Sauk Centre, MN, Sauk Centre Muni, GPS RWY 32, Orig, CANCELLED

Sauk Centre, MN, Sauk Centre Muni, RNAV (GPS) RWY 32, Orig

Sauk Centre, MN, Sauk Centre Muni, Takeoff Minimums and Obstacle DP, Orig

Neosho, MO, Neosho Hugh Robinson, Takeoff Minimums and Obstacle DP, Amdt 1

Shelby, MT, Shelby, RNAV (GPS) RWY 23, Amdt 1

Plymouth, NC, Plymouth Muni, GPS RWY 3, Orig, CANCELLED

Plymouth, NC, Plymouth Muni, GPS RWY 21, Orig, CANCELLED

Plymouth, NC, Plymouth Muni, RNAV (GPS) RWY 3, Orig

Plymouth, NC, Plymouth Muni, RNAV (GPS) RWY 21, Orig

Battle Mountain, NV, Battle Mountain, VOR-A, Amdt 5

Las Vegas, NV, Henderson Executive, RNAV (GPS)-B, Amdt 1A

Shirley, NY, Brookhaven, RNAV (GPS) RWY 6, Amdt 2

Cincinnati, OH, Cincinnati-Blue Ash, Takeoff Minimums and Obstacle DP, Amdt 1

Stigler, OK, Stigler Rgnl, GPS RWY 17, Orig-A, CANCELLED

Stigler, OK, Stigler Rgnl, GPS RWY 35, Orig-A, CANCELLED

Stigler, OK, Stigler Rgnl, RNAV (GPS) RWY 17, Orig

Stigler, OK, Stigler Rgnl, RNAV (GPS) RWY 35, Orig

Lancaster, PA, Lancaster, RNAV (GPS) RWY 13, Orig

Lancaster, PA, Lancaster, RNAV (GPS) RWY 26, Amdt 2

Lancaster, PA, Lancaster, RNAV (GPS) RWY 31, Amdt 1

Aguadilla, PR, Rafael Hernandez, VOR/DME or TACAN RWY 8, Amdt 3

College Station, TX, Easterwood Field, RNAV (GPS) RWY 10, Amdt 1

College Station, TX, Easterwood Field, RNAV (GPS) RWY 16, Amdt 1

College Station, TX, Easterwood Field, RNAV (GPS) RWY 28, Amdt 1

College Station, TX, Easterwood Field, RNAV (GPS) RWY 34, Amdt 1

Crosbyton, TX, Crosbyton Muni, GPS RWY 35, Orig-B, CANCELLED

Crosbyton, TX, Crosbyton Muni, RNAV (GPS) RWY 17, Orig

Crosbyton, TX, Crosbyton Muni, RNAV (GPS) RWY 35, Orig

Houston, TX, David Wayne Hooks Memorial, LOC RWY 17R, Amdt 2

Lockhart, TX, Lockhart Muni, GPS RWY 18, Orig, CANCELLED

Lockhart, TX, Lockhart Muni, GPS RWY 36, Orig-C, CANCELLED

Lockhart, TX, Lockhart Muni, RNAV (GPS) RWY 18, Orig

Lockhart, TX, Lockhart Muni, RNAV (GPS) RWY 36, Orig

Lockhart, TX, Lockhart Muni, Takeoff Minimums and Obstacle DP, Orig

Midland, TX, Midland Airpark, RNAV (GPS) RWY 25, Orig

Delta, UT, Delta Muni, RNAV (GPS) RWY 17, Amdt 1

Delta, UT, Delta Muni, RNAV (GPS) RWY 35, Amdt 1

Roanoke, VA, Roanoke Rgnl/Woodrum Field, ILS OR LOC RWY 34, Amdt 13

Roanoke, VA, Roanoke Rgnl/Woodrum Field, LDA RWY 6, Amdt 10

Roanoke, VA, Roanoke Rgnl/Woodrum Field, RNAV (GPS) RWY 6, Amdt 1

Roanoke, VA, Roanoke Rgnl/Woodrum Field, RNAV (GPS) RWY 24, Amdt 1

Roanoke, VA, Roanoke Rgnl/Woodrum Field, RNAV (GPS) RWY 34, Amdt 1

Roanoke, VA, Roanoke Rgnl/Woodrum Field, Takeoff Minimums and Obstacle DP, Amdt 9

Roanoke, VA, Roanoke Rgnl/Woodrum Field, VOR/DME-A, Amdt 7

Roanoke, VA, Roanoke Rgnl/Woodrum Field, VOR/NDB RWY 34, Amdt 1

Arlington, WA, Arlington Muni, LOC RWY 34, Amdt 5

Arlington, WA, Arlington Muni, NDB RWY 34, Amdt 4

Arlington, WA, Arlington Muni, RNAV (GPS) RWY 34, Orig

Arlington, WA, Arlington Muni, Takeoff Minimums & Obstacle DP, Amdt 3

Bellingham, WA, Bellingham Intl, ILS OR LOC RWY 16, Amdt 5B

La Crosse, WI, La Crosse Muni, RNAV (GPS) RWY 3, Amdt 1

Madison, WI, Dane County Rgnl-Truax Field, ILS OR LOC/DME RWY 18, Amdt 1

Madison, WI, Dane County Rgnl-Truax Field, ILS OR LOC/DME RWY 36, Amdt 1

Madison, WI, Dane County Rgnl-Truax Field, RNAV (GPS) RWY 18, Amdt 2

Madison, WI, Dane County Rgnl-Truax Field, RNAV (GPS) RWY 36, Amdt 2

Milwaukee, WI, Lawrence J Timmerman, RNAV (GPS) RWY 4L, Orig

Milwaukee, WI, Lawrence J Timmerman, RNAV (GPS) RWY 22R, Orig-A

Beckley, WV, Raleigh County Memorial, ILS OR LOC RWY 19, Amdt 6

Beckley, WV, Raleigh County Memorial, RNAV (GPS) RWY 1, Amdt 1

Beckley, WV, Raleigh County Memorial, RNAV (GPS) RWY 10, Amdt 1

Beckley, WV, Raleigh County Memorial, RNAV (GPS) RWY 19, Amdt 1

Beckley, WV, Raleigh County Memorial, RNAV (GPS) RWY 28, Amdt 1

Ravenswood, WV, Jackson County, GPS RWY 4, Orig, CANCELLED

Ravenswood, WV, Jackson County, GPS RWY 22, Orig, CANCELLED

Ravenswood, WV, Jackson County, RNAV (GPS) RWY 4, Orig

Ravenswood, WV, Jackson County, RNAV (GPS) RWY 22, Orig

Ravenswood, WV, Jackson County, Takeoff Minimums and Obstacle DP, Amdt 2

[FR Doc. 2011-16784 Filed 7-8-11; 8:45 am]

BILLING CODE 4910-13-P